NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 1, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Applicant: Andrea Polli, 43-01 21st Street, #300, Long Island City, NY 11101.

Permit Application No.: 2008-001.

Activity for Which Permit Is Requested: Enter Antarctic Specially Protected Areas. The applicant is a participant in the Artists and Writers Program and will work with scientists gathering and modeling environmental data as part of the McMurdo Dry Valleys Long Term Ecological Research Project. One aspect of the project relates to the history of the area. Therefore the applicant wishes to visit the McMurdo Sound area historic huts at Discovery Hut (ASPA #158), Cape Evans (ASPA #155) and Cape Royds (ASPA #157) for video and photographic documentation.

Location: Discovery Hut (ASPA #158), Cape Evans (ASPA #155) and Cape Royds (ASPA #157).

Dates: December 1, 2007 to January 10, 2008.

2. Applicant: Robert A. Garrott, Ecology Department, Montana State University, 310 Lewis Hall, Bozeman, MT 59715.

Permit Application No.: 2008-016.

Activity for Which Permit Is Requested: Take, Import into the U.S.A. and Enter Antarctic Specially Protected Area (ASPA). The applicant plans to capture, tag, weigh and collect small skin and muscle samples from up to 280 adult and pup Weddell seals, in order to evaluate how temporal variation in the marine environment affects a long-lived mammal's population dynamics. In addition, the applicant proposes to visit the White Island Antarctic Specially Protected Area (ASPA #137) to census and tag seals in this isolated colony.

Location: McMurdo Sound sea ice and Northwest White Island (ASPA #127).

Dates: October 1, 2007 to February 15, 2012.

Nadene G. Kennedy,
Permit Officer, Office of Polar Programs.

[FR Doc. E7-17234 Filed 8-30-07; 8:45 am]

BILLING CODE 7555-01-P